DEPARTMENT OF LABOR

Mine Safety and Health Administration

30 CFR Part 75

[Docket No. MSHA-2014-0019]

RIN 1219-AB78

Proximity Detection Systems for Mobile Machines in Underground Mines

AGENCY: Mine Safety and Health Administration, Labor.

ACTION: Proposed rule; extension of comment period.

SUMMARY: In response to a request, the Mine Safety and Health Administration (MSHA) is extending the comment period for its proposed rule on Proximity Detection Systems for Mobile Machines in Underground Mines. This extension gives stakeholders additional time to evaluate the comments and rulemaking record and provide meaningful input.

DATES: Comments must be received by midnight Daylight Saving Time on April 10, 2017.

ADDRESSES: Submit comments and informational materials, identified by RIN 1219-AB78 or Docket No. MSHA-2014-0019, by one of the following methods:

• Federal E-Rulemaking Portal: http://www.regulations.gov. Follow the on-line instructions for submitting comments.

• Email: zzMSHA-comments@dol.gov. Include RIN 1219-AB78 or Docket No. MSHA-2014-0019 in the subject line of the message.

• Mail: MSHA, Office of Standards, Regulations, and Variances, 201 12th Street South, Suite 4E401, Arlington, Virginia 22202-5452.

• Fax: 202-693-9441.

• Hand Delivery or Courier: MSHA, 201 12th Street South, Suite 4E401, Arlington, Virginia, between 9:00 a.m. and 5:00 p.m. Monday through Friday, except Federal holidays. Sign in at the receptionist's desk on the 4th Floor East.

Instructions: All submissions must include RIN 1219-AB78 or Docket No. MSHA-2014-0019. Do not include personal information that you do not want publicly disclosed; MSHA will post all comments without change, including any personal information provided.

Docket: For access to the docket to read comments received, go to http://www.regulations.gov or http://www.msha.gov/currentcomments.asp. To read background documents, go to http://www.regulations.gov. Review the docket in person at MSHA, Office of Standards, Regulations, and Variances, 201 12th Street South, Suite 4E401, Arlington, Virginia 22202-5452, between 9:00 a.m. and 5:00 p.m. Monday through Friday, except Federal Holidays. Sign in at the receptionist's desk on the 4th floor East, Suite 4E401.

Email Notification: To subscribe to receive an email notification when MSHA publishes rules in the Federal Register, go to http://www.msha.gov/subscriptions.

FOR FURTHER INFORMATION CONTACT: Sheila A. McConnell, Director, Office of Standards, Regulations, and Variances, MSHA, at mcconnell.sheila.a@dol.gov (email); 202-693-9440 (voice); or 202-693-9441 (facsimile).

SUPPLEMENTARY INFORMATION: On September 2, 2015 (80 FR 53070), MSHA published a proposed rule that would require underground coal mine operators to equip coal hauling machines and scoops with proximity detection systems. Miners working near these machines face pinning, crushing, and striking hazards that result in accidents involving life threatening injuries and death. MSHA believes that the use of proximity detection systems would reduce the potential for these pinning, crushing, or striking accidents. The comment period for the proposed rule closed on December 15, 2015.

On January 9, 2017 (82 FR 2285), MSHA published a notice reopening the rulemaking record and requesting comments on issues that were raised by commenters during the comment period and on issues that developed after the record closed. The comment period was scheduled to close on February, 8 2017.

On January 23, 2017, MSHA received a request to extend the comment period an additional 60 days to provide more time for interested parties to comment. In response to this request, MSHA is extending the comment period from February 8, 2017, to April 10, 2017.

Patricia W. Silvey,
Deputy Assistant Secretary for Mine Safety and Health Administration.

[FR Doc. 2017-02388 Filed 2-3-17; 8:45 am]

BILLING CODE 4520-43-P